SMALL BUSINESS ADMINISTRATION

SBA Guidance Documents

AGENCY: U.S. Small Business Administration.

SUMMARY: In accordance with Executive Order 13891, Promoting the Rule of Law Through Improved Agency Guidance Documents, the U.S. Small Business Administration (“SBA”) is publishing this notice to advise the public of the availability of SBA Guidance Documents on its website and inform them that by February 28, 2020, all guidance documents may be found there.

DATES: SBA's Guidance Document web page will be available beginning February 28, 2020.

ADDRESSES: The guidance documents of the SBA are available at www.sba.gov/guidance.

FOR FURTHER INFORMATION CONTACT: Questions regarding the Guidance Document web page should be directed to Jeffrey Davis, Information Specialist, Office of Communications and Public Liaison; phone: (202) 401-8214; email: Jeffrey.Davis@sba.gov.

SUPPLEMENTARY INFORMATION: As set forth in Executive Order 13891, Promoting the Rule of Law Through Improved Agency Guidance Documents, 84 FR 55235 (October 15, 2019) (“Executive Order 13891”), Americans deserve an open and fair regulatory process that imposes new obligations on the public only when consistent with applicable law and after an agency follows appropriate procedures. Therefore, it is the policy of the executive branch, to the extent consistent with applicable law, to increase transparency by taking public input into account when appropriate in formulating guidance documents, and making guidance documents readily available to the public. Unless otherwise provided in statute, regulation, or contract/agreement, guidance documents lack the force and effect of law.

The term “guidance documents” is defined as any statement of agency policy or interpretation concerning a statute, regulation, or technical matter within the jurisdiction of the agency that is intended to have general applicability and future effect, but which is not intended to have the force or effect of law in its own. For SBA, “guidance documents” includes externally facing Standard Operating Procedures, Policy Notices, Procedural Notices, and some miscellaneous documents, such as certain Program Guides, and other general guidance.

This Notice is published in accordance with Executive Order 13891 and OMB Memorandum #M-20-02, Guidance Implementing Executive Order 13891, Titled “Promoting the Rule of Law Through Improved Agency Guidance Documents” (October 31, 2019), available at https://www.whitehouse.gov/wp-content/uploads/2019/10/M-20-02-Guidance-Memo.pdf (“OMB Memorandum”). The purpose of Executive Order 13891 is to provide greater transparency to the public of an agency's policies and procedures and provide one convenient site where all of the agency's guidance documents may easily be found. To accomplish this, Executive Order 13891 requires all Agencies and Departments to establish or maintain on their website a single, searchable, indexed database that contains or links to all guidance documents in effect from such agency or component.

For each guidance document published on SBA's guidance web page, we will include the following information:

• A concise name for the guidance document;

• The guidance document's effective date;

• An agency unique identifier;

• A hyperlink to the guidance document;

• The general topic addressed by the guidance document; and

• One or two sentences summarizing the guidance document's content.

At the same time as publication in the Federal Register, SBA is also making the this notice available on the new guidance web page and making it available to its stakeholders through its normal means of distributing important announcements.

Dated: February 19, 2020.
Sean Crean,
Director, Office of Executive Management, Installations, and Support Services.

[FR Doc. 2020-03679 Filed 2-24-20; 8:45 am]

BILLING CODE 8026-03-P